DEPARTMENT OF THE INTERIOR

Bureau of Land Management

[14XL LLIDB00100 LF1000000.HT0000 LXSS024D0000 241A 4500064338]

Public Meeting; Resource Advisory Council to the Boise District

AGENCY: Bureau of Land Management, Interior.

ACTION: Notice of field tour and public meeting.

SUMMARY: In accordance with the Federal Land Policy and Management Act (FLPMA) and the Federal Advisory Committee Act of 1972 (FACA), the U.S. Department of the Interior, Bureau of Land Management (BLM) Boise District Resource Advisory Council (RAC), will hold a meeting and participate in a field tour as indicated below.

DATES: The field tour of the Juniper Mountain area will take place May 28, 2014. The tour will begin at the Marsing VFW located at 6606 Jump Creek Road, Marsing, Idaho 83639 beginning at 9 a.m. Members of the public are invited to attend and must provide their own transportation. A public comment period will be held before the tour departs. The meeting will be held on June 5, 2014, at the BLM Boise District Office, located at 3948 S. Development Avenue, Boise, Idaho, beginning at 9 a.m. and adjourning at 2 p.m. Members of the public are invited to attend. A public comment period will be held.

FOR FURTHER INFORMATION CONTACT: Marsha Buchanan, Supervisory Administrative Specialist and RAC Coordinator, BLM Boise District, 3948 Development Ave., Boise, ID 83705, Telephone (208) 384-3364.

SUPPLEMENTARY INFORMATION: The 15-member Council advises the Secretary of the Interior, through the BLM, on a variety of planning and management issues associated with public land management in southwestern Idaho. During the field tour, Council members will examine the Boise District's efforts and proposed projects regarding juniper management in the Owyhee and Bruneau Field Offices. During the June meeting the Gateway West Project RAC Subcommittee will present their report to the full RAC for a RAC decision. Agenda items and locations may change due to changing circumstances. The public may present written or oral comments to members of the Council. At each full RAC meeting, time is provided in the agenda for hearing public comments. Depending on the number of persons wishing to comment and time available, the time for individual oral comments may be limited.

Individuals who plan to attend and need special assistance should contact the BLM Coordinator as provided above. Persons who use a telecommunications device for the deaf (TDD) may call the Federal Information Relay Service (FIRS) at 1-800-877-8339 to contact the above individual during normal business hours. The FIRS is available 24 hours a day, 7 days a week, to leave a message or question with the above individual. You will receive a reply during normal business hours.

Dated: April 21, 2014.
Brandon Knapton,
Acting District Manager.

[FR Doc. 2014-09509 Filed 4-25-14; 8:45 am]

BILLING CODE 4310-GG-P